DEPARTMENT OF TRANSPORTATION

Federal Aviation Administration

[Summary Notice No. PE-2003-73]

Petitions for Exemption; Dispositions of Petitions Issued

AGENCY: Federal Aviation Administration (FAA), DOT.

ACTION: Notice of dispositions of prior petitions.

SUMMARY: Pursuant to FAA's rulemaking provisions governing the application, processing, and disposition of petitions for exemption part 11 of Title 14, Code of Federal Regulations (14 CFR), this notice contains the dispositions of certain petitions previously received. The purpose of this notice is to improve the public's awareness of, and participation in, this aspect of FAA's regulatory activities. Neither publication of this notice nor the inclusion or omission of information in the summary is intended to affect the legal status of any petition or its final disposition.

FOR FURTHER INFORMATION CONTACT: Caren Centorelli, Office of Rulemaking (ARM-1), Federal Aviation Administration, 800 Independence Avenue, SW., Washington, DC 20591. Tel. (202) 267-8199.

This notice is published pursuant to 14 CFR §§ 11.85 and 11.91.

Issued in Washington, DC, on December 5, 2003.
Donald P. Byrne,
Assistant Chief Counsel for Regulations.

Dispositions of Petitions

Docket No.: FAA-2003-15857.

Petitioner: Northeast Engineering & Development Ltd.

Section of 14 CFR Affected: 14 CFR 25.561, 25.562, and 25.785(b).

Description of Relief Sought/Disposition: To provide relief from the requirements of 14 CFR 25.562 and 25.785(b) for installation of medical stretchers on Airbus Model 330-200 airplanes.

Partial Grant, 11/24/2003, Exemption No.8183.

Docket No.: FAA-2003-16074.

Petitioner: Gulfstream Aerospace Corporation.

Section of 14 CFR Affected: 14 CFR 25.785(b).

Description of Relief Sought/Disposition: To amend Exemption No. 7296 to remove the limitations that restrict its applicability to seats manufactured by ERDA, Inc. and to airplanes manufactured before January 1, 2004. This exemption is applicable to Gulfstream 200 (Galaxy) model airplanes installed in accordance with Supplemental Type Certificate ST09848SC.

Grant, 11/24/2003, Exemption No.7296A.

[FR Doc. 03-30646 Filed 12-10-03; 8:45 am]

BILLING CODE 4910-13-P